SMALL BUSINESS ADMINISTRATION

[Declaration of Disaster #3562]

State of California; Amendment #1

In accordance with a notice received from the Department of Homeland Security—Federal Emergency Management Agency, effective February 6, 2004, the above numbered declaration is hereby amended to establish the incident period for this disaster as beginning December 22, 2003 and continuing through February 6, 2004.

All other information remains the same, i.e., the deadline for filing applications for physical damage remains as March 15, 2004, and for economic injury the deadline is October 13, 2004.

(Catalog of Federal Domestic Assistance Program Nos. 59002 and 59008)

Dated: February 12, 2004.
Herbert L. Mitchell,
Associate Administrator for Disaster Assistance.

[FR Doc. 04-3751 Filed 2-19-04; 8:45 am]

BILLING CODE 8025-01-P